DEPARTMENT OF VETERANS AFFAIRS

Funding Availability Under Supportive Services for Veteran Families Program

AGENCY: Department of Veterans Affairs.

ACTION: Notice of fund availability.

SUMMARY: The Department of Veterans Affairs (VA) is announcing the availability of funds for supportive services grants under the Supportive Services for Veteran Families (SSVF) Program. This Notice of Fund Availability (NOFA) contains information concerning the SSVF Program, renewal of supportive services grant application processes, and the amount of funding available. Awards made for supportive services grants will fund operations beginning October 1, 2020.

DATES: Applications for supportive services grants under the SSVF Program must be received by the SSVF Program Office by 4:00 p.m. Eastern Time on January 31, 2020. In the interest of fairness to all competing applicants, this deadline is firm as to date and hour, and VA will treat as ineligible for consideration any application that is received after the deadline. Applicants should take this practice into account and make early submission of their materials to avoid any risk of loss of eligibility brought about by unanticipated delays, computer service outages, or other submission-related problems.

ADDRESSES: For a Copy of the Application Package: Copies of the application can be downloaded from the SSVF website at www.va.gov/homeless/ssvf. Questions should be referred to the SSVF Program Office by email at SSVF@va.gov. For detailed SSVF Program information and requirements, see part 62 of Title 38, Code of Federal Regulations (CFR) (38 CFR part 62).

Submission of Application Package: Applicants must submit applications electronically following instructions found at www.va.gov/homeless/ssvf. Applications may not be mailed or sent by facsimile (FAX). Applications must be received in the SSVF Program Office by 4:00 p.m. Eastern Time on the application deadline date. Applications must arrive as a complete package. Materials arriving separately will not be included in the application package for consideration and may result in the application being rejected. See Section II.C. of this NOFA for maximum allowable grant amounts.

Technical Assistance: Information regarding how to obtain technical assistance with the preparation of a renewal supportive services grant application is available on the SSVF Program website at www.va.gov/homeless/ssvf.

FOR FURTHER INFORMATION CONTACT: Mr. John Kuhn, National Director, Supportive Services for Veteran Families, by email at SSVF@va.gov.

SUPPLEMENTARY INFORMATION: Funding Opportunity Title: Supportive Services for Veteran Families Program.

Announcement Type: Initial.

Funding Opportunity Number: VA-SSVF-103119.

Catalog of Federal Domestic Assistance Number: 64.033, VA Supportive Services for Veteran Families Program.

I. Funding Opportunity Description

A. Purpose: The SSVF Program's purpose is to provide supportive services grants to private non-profit organizations and consumer cooperatives, who will coordinate or provide supportive services to very low-income Veteran families who: (i) Are residing in permanent housing and at risk of becoming homeless; (ii) are homeless and scheduled to become residents of permanent housing within a specified time period; or (iii) after exiting permanent housing within a specified time period, are seeking other housing that is responsive to such very low-income Veteran family's needs and preferences. SSVF prioritizes the delivery of rapid re-housing services to homeless Veteran households.

Rapid re-housing is an intervention designed to help individuals and families quickly exit homelessness, return to housing in the community, and avoid homelessness again in the near term. The core components of a rapid re-housing program are housing identification, move-in and rent financial assistance, and rapid re-housing case management and services. These core components represent the minimum that a program must be providing to households to be considered a rapid re-housing program, but do not provide guidance for what constitutes an effective rapid re-housing program. Applicants should familiarize themselves with the Rapid Re-housing Performance Benchmarks and Program Standards found at https://www.va.gov/homeless/ssvf/?page=/ssvf_university/fidelity_tool_ssvf_standards.

B. Funding Priorities: The principle goal for this NOFA is to provide support to those applicants who demonstrate the greatest capacity to end homelessness among Veterans or, in communities that have already met U.S. Interagency Council on Homelessness (USICH) Federal Criteria and Benchmarks, sustain the gains made in ending homelessness among Veterans. Priority will be given to grantees who can demonstrate adoption of evidence-based practices in their application. Under Priority 1, VA will provide funding to those grantees with 3-year accreditation from the Commission on Accreditation of Rehabilitation Facilities (CARF) in Employment and Community Services including: Rapid Rehousing and Homeless Prevention standards, a 4-year accreditation from the Council on Accreditation's (COA) accreditation in Housing Stabilization and Community Living Services standards, or a 3-year accreditation in The Joint Commission's (JC) Behavioral Health Care: Housing Support Services Standards. Priority 2 includes existing grantees with annual awards, seeking to renew their grants not included in Priority 1. Priority 3 includes existing grantees previously awarded 2-year grants stemming from the SSVF NOFA published on December 19, 2018.

C. Definitions: Part 62 of title 38, Code of Federal Regulations (38 CFR part 62), contains definitions of terms used in the SSVF Program. In addition to the definitions and requirements described in 38 CFR part 62, this NOFA provides further clarification in this paragraph on the use of Emergency Housing Assistance (EHA). EHA may be provided by the SSVF grantee under 38 CFR 62.34(f) to offer transition in place when a permanent housing voucher, such as is offered through the Department of Housing and Urban Development's (HUD) Section 8 program, is available from any source, but access to the permanent housing voucher is pending completion of the housing inspection and administrative processes necessary for leasing. In such circumstances, the EHA payment cannot exceed what would otherwise be paid when the voucher is utilized. EHA may also be used as part of a Rapid Resolution or diversion response that helps Veteran households avoid entry into homelessness through placements with family or friends.

D. Approach: Respondents to this NOFA should base their proposals and applications on the current requirements of part 62. Grantees will be expected to leverage supportive services grant funds to enhance the housing stability of very low-income Veteran families who are occupying permanent housing. In doing so, grantees are required to establish relationships with local community resources. Therefore, agencies must work through coordinated partnerships built either through formal agreements or the informal working relationships commonly found among successful social service providers.

As part of the application, all applicants are strongly encouraged to provide letters of support from their respective VA Network Homeless Coordinator (or their designee). In addition, applicants are strongly encouraged to provide letters of support from the Continuum of Care (CoC) where they plan to deliver services that reflect the applicant's engagement in the CoC's efforts to coordinate services. A CoC is a community plan to organize and deliver housing and services to meet the needs of people who are homeless as they move to stable housing and maximize self-sufficiency. The CoC includes action steps to end homelessness and prevent a return to homelessness. CoC locations and contact information can be found at: https://www.hudexchange.info/grantees/contacts/?params= %7B%22limit%22%3A20%2C%22sortV%22%3A%22%22%2C%22order%22%3A%22%22%2C%22years%22%3A%5B%5D%2C%22searchTerm%22%3A%22%22%2C%22grantees%22%3A%5B%5D%2C%22state%22%3A%22%22%2C%22programs%22%3A%5B3%5D%2C%22coc%22%3Atrue%7D##granteeSearch.

The CoC's letter of support should note if the applicant is providing assistance to the CoC in building local capacity to build Coordinated Entry Systems (CES) and the value and form of that assistance, whether support is direct funding or staffing. CES requires that providers operating within the CoC's geographic area must also work together to ensure the CoC's coordinated entry process allows for coordinated screening, assessment, and referrals (HUD Notice: CPD-17-01). The CoC's letter of support should also describe the applicant's participation in the CoC's community planning efforts. Failure to provide a letter of support from the CoC as described will limit the maximum award to 90 percent of the award made in the previous fiscal year (as described in II.C.7). In addition, any applicant proposing to serve an Indian Tribal area is strongly encouraged to provide a letter of support from the relevant Indian Tribal Government.

The aim of the provision of supportive services is to assist very low-income Veteran families residing in permanent housing to remain stably housed and to rapidly transition those not currently in permanent housing to stable housing. SSVF emphasizes the placement of homeless Veteran families who are described in 38 CFR 62.11(b)-(c) as (i) very low-income Veteran families who lack a fixed, regular, and adequate nighttime residence and are scheduled to become residents of permanent housing within 90 days pending the location or development of housing suitable for permanent housing, and (ii) very low-income Veteran families who have exited permanent housing within the previous 90 days to seek other housing that is responsive to their needs and preferences. As a crisis intervention program, the SSVF Program is not intended to provide long-term support for participants, nor will it be able to address all of the financial and supportive services needs of participants that affect housing stability. Rather, when participants require long-term support, grantees should focus on connecting such participants to income supports, such as employment and mainstream Federal and community resources (e.g., HUD-VA Supportive Housing program, HUD Housing Choice Voucher programs, McKinney-Vento Funded Supportive Housing Programs, Temporary Assistance for Needy Families (TANF), and Social Security Income/Social Security Disability Insurance (SSI/SSDI), etc.) that can provide ongoing support as required.

Assistance in obtaining or retaining permanent housing is a fundamental goal of the SSVF Program. Grantees must provide case management services in accordance with 38 CFR 62.31. Such case management should include tenant counseling, mediation with landlords, and outreach to landlords.

E. Authority: Funding available under this NOFA is authorized by 38 United States Code (U.S.C.) 2044. VA implements the SSVF Program through regulations in 38 CFR part 62. Funds made available under this NOFA are subject to the requirements of these regulations.

F. Requirements for the Use of Supportive Services Grant Funds: The applicant's request for funding must be consistent with the limitations and uses of supportive services grant funds set forth in 38 CFR part 62 and this NOFA. In accordance with the regulations and this NOFA, the following requirements apply to supportive services grants awarded under this NOFA:

1. Grantees may use a maximum of 10 percent of supportive services grant funds for administrative costs identified in 38 CFR 62.70(e).

2. Grantees must use a minimum of 60 percent of the temporary financial assistance portion of their supportive services grant funds to serve very low-income Veteran families who qualify under 38 CFR 62.11(b). (Note: Grantees may request a waiver to decrease this minimum, as discussed in section V.B.3.a.)

3. Priority 1 and 2 grantees may use a maximum of 50 percent of supportive services grant funds to provide the supportive service of temporary financial assistance paid directly to a third party on behalf of a participant for child care, emergency housing assistance, transportation, rental assistance, utility-fee payment assistance, security deposits, utility deposits, moving costs, and general housing stability assistance (which includes emergency supplies), in accordance with 38 CFR 62.33 and 38 CFR 62.34, unless a waiver is granted by the SSVF program office.

4. Priority 3 grantees must use a minimum of 60 percent (the program office may reduce this requirement after October 1, 2021) of funds to support temporary financial assistance with the expectation that much of these funds will be used for rental assistance in accordance with 38 CFR 62.34(8)(e). Priority 3 awards will extend existing awards made from the NOFA published on December 19, 2018. The total of both of these awards will extend to September 30, 2022.

G. Guidance for the Use of Supportive Services Grant Funds: Grantees are expected to demonstrate adoption of evidence-based practices most likely to lead to reductions in homelessness or, in communities that have successfully ended homelessness among Veterans as defined by the USICH's Federal Criteria and Benchmarks or, alternatively, Community Solutions' Functional Zero (the latter can be found at https://cmtysolutions.org/sites/default/files/final_zero_2016_metrics.pdf), a capacity to sustain these gains. As part of their application, the applying organization's Executive Director must certify on behalf of the agency that they will actively participate in community planning efforts and operate the rapid re-housing component of their SSVF grant in a manner consistent with the Rapid Re-housing Performance Benchmarks and Program Standards found at: https://www.va.gov/homeless/ssvf/?page=/ssvf_university/fidelity_tool_ssvf_standards. Housing is not contingent on compliance with mandated therapies or services; instead, participants must comply with a standard lease agreement and are provided with the services and supports that are necessary to help them do so successfully.

Grantees must develop plans that will ensure that Veteran participants have the level of income and economic stability needed to remain in permanent housing after the conclusion of the SSVF intervention. Both employment and benefits assistance from VA and non-VA sources represent a significant underutilized source of income stability for homeless Veterans. Income is not a pre-condition for housing. Case management should include income maximization strategies to ensure households have access to benefits, employment, and financial counseling. The complexity of program rules and the stigma some associate with entitlement programs contributes to their lack of use. For this reason, grantees are encouraged to consider strategies that can lead to prompt and successful access to employment and benefits that are essential to retaining housing.

1. Consistent with 38 CFR 62.30-62.34, grantees are expected to offer the following supportive services: Counseling participants about housing; assisting participants in understanding leases; securing utilities; making moving arrangements; providing representative payee services concerning rent and utilities when needed; and mediation and outreach to property owners related to locating or retaining housing. Grantees may also assist participants by providing rental assistance, security or utility deposits, moving costs, emergency housing, or general housing stability assistance; or using other Federal resources, such as the HUD's Emergency Solutions Grants Program, or supportive services grant funds subject to the limitations described in this NOFA and 38 CFR 62.34.

2. As SSVF is a short-term crisis intervention, grantees must develop plans that will produce sufficient income to sustain Veteran participants in permanent housing after the conclusion of the SSVF intervention. Grantees must ensure the availability of employment and vocational services either through the direct provision of these services or their availability through formal or informal service agreements. Agreements with Homeless Veteran Reintegration Programs funded by the U.S. Department of Labor are strongly encouraged. For participants unable to work due to disability, income must be established through available benefits programs.

3. Per 38 CFR 62.33, grantees must assist participants in obtaining public benefits. Grantees must screen all participants for eligibility for a broad range of entitlements such as TANF, Social Security, the Supplemental Nutrition Assistance Program, the Low-Income Home Energy Assistance Program, the Earned Income Tax Credit, and local General Assistance programs. Grantees are expected to access the Substance Abuse and Mental Health Services Administration's SSI/SSDI Outreach, Access, and Recovery (SOAR) program directly by training staff and providing the service or subcontracting services to an organization to provide SOAR services. In addition, where available, grantees should access information technology tools to support case managers in their efforts to link participants to benefits.

4. Grantees are encouraged to provide, or assist participants in obtaining, legal services relevant to issues that interfere with the participants' ability to obtain or retain permanent housing. (Note: Information regarding legal services provided may be protected from being released to the grantee or VA under attorney-client privilege, although the grantee must provide sufficient information to demonstrate the frequency and type of service delivered.) Support for legal services can include paying for court filing fees to assist a participant with issues that interfere with the participant's ability to obtain or retain permanent housing or supportive services, including issues that affect the participant's employability and financial security. Grantees (in addition to employees and members of grantees) may represent participants before VA with respect to a claim for VA benefits, but only if they are recognized for that purpose pursuant to 38 U.S.C. Chapter 59. Further, the individual providing such representation must be accredited pursuant to 38 U.S.C. Chapter 59.

5. Access to mental health and addiction services are required by SSVF; however, grantees cannot fund these services directly through the SSVF grant. Therefore, applicants must demonstrate, through either formal or informal agreements, their ability to promote rapid access to and engagement with mental health and addiction services for the Veteran and family members.

6. VA recognizes that extremely low-income Veterans with incomes below 30 percent of the area median income face greater barriers to permanent housing placement. Grantees should consider how they can support these participants.

7. When serving participants who are residing in permanent housing, the defining question to ask is: “Would this individual or family be homeless but for this assistance?” The grantee must use a VA-approved screening tool with criteria that target those most at-risk of homelessness. To qualify for SSVF services, a participant who is served under 38 CFR 62.11(a) (homeless prevention) must not have sufficient resources or support networks (e.g., family, friends, faith-based, or other social networks) immediately available to prevent them from becoming homeless. To further qualify for services under 38 CFR 62.11(a), the grantee must document that the participant meets at least one of the following conditions:

(a) Has moved because of economic reasons two or more times during the 60 days immediately preceding the application for homelessness prevention assistance;

(b) Is living in the home of another because of economic hardship;

(c) Has been notified in writing that their right to occupy their current housing or living situation will be terminated within 21 days after the date of application for assistance;

(d) Lives in a hotel or motel, and the cost of the hotel or motel stay is not paid by charitable organizations or by Federal, state, or local government programs for low-income individuals;

(e) Is exiting a publicly funded institution or system of care (such as a health care facility, a mental health facility, or correctional institution) without a stable housing plan; or

(f) Otherwise lives in housing that has characteristics associated with instability and an increased risk of homelessness, as identified in the recipient's approved screening tool.

8. SSVF grantees are required to participate in local planning efforts designed to end Veteran homelessness. Grantees may use grant funds to support SSVF involvement in such community planning by sub-contracting with CoCs, when such funding is essential, to create or sustain the development of these data driven plans.

9. When other funds from community resources are not readily available to assist program participants, grantees may choose to utilize supportive services grants, to the extent described in this NOFA and in 38 CFR 62.33 and 62.34, to provide temporary financial assistance. Such assistance may, subject to the limitations in this NOFA and 38 CFR part 62, be paid directly to a third party on behalf of a participant for child care, transportation, family emergency housing assistance, rental assistance, utility-fee payment assistance, security or utility deposits, moving costs, and general housing stability assistance as necessary.

10. SSVF requires grantees to offer Rapid Resolution (also known as diversion) services. These services engage Veterans immediately before or after they become homeless and assist them to avoid continued homelessness. These efforts can reduce the trauma and expense associated with extended periods of homelessness and the strain on the crisis response and affordable housing resources in the community. Through Rapid Resolution, the grantee and the Veteran explore safe, alternative housing options immediately before or quickly after they become homeless. Rapid Resolution can identify an immediate safe place to stay within the Veteran's network of family, friends, or other social networks. All Veterans requesting SSVF services should have a Rapid Resolution screening and if not appropriate for Rapid Resolution grantees should then assess the Veteran for other SSVF services. More information about Rapid Resolution can be found at www.va.gov/homeless/ssvf.

II. Award Information

A. Overview: This NOFA announces the availability of funds for supportive services grants under the SSVF Program and pertains to proposals for renewal of existing supportive services grant programs.

B. Funding: The following funding priorities for this NOFA are as follows.

1. Priority 1. Under Priority 1, VA will provide funding to those grantees with 3-year CARF, 4-year COA accreditations, or 3-year JC accreditations. Proof of accreditation must be submitted with the application no later than the application due date. Grantees previously awarded a 3-year grant that is not scheduled to end by October 1, 2020, cannot apply under this NOFA but are required to submit a letter of intent (LOI) by the NOFA deadline indicating their intention of continuing SSVF services in Fiscal Year (FY) 2021. All grantees submitting a LOI must include a letter of support from the CoC (see Section II.C.8.) and a proposed budget for FY 2021. Priority 1 grantees submitting a LOI must also submit proof of continued accreditation.

2. Priority 2. Priority 2 includes other existing grantees seeking to renew their annual grant awards.

Both Priority 1 and 2 applicants must apply using the renewal application. To be eligible for renewal of a supportive services grant, the Priority 1 and 2 applicants' program concept must be substantially the same as the program concept of the grantees' current grant award. Renewal applications can request funding that is equal to or less than their current annualized award. If sufficient funding is available, VA may provide an increase of up to 2 percent from the previous year's award. Any percentage increase, if provided, will be awarded uniformly to all grant recipients regardless of their grant award.

3. Priority 3. Under Priority 3, VA will provide funding to current grantees previously awarded 2-year grants stemming from the SSVF NOFA published on December 19, 2018. Applicants apply by submitting a LOI by the NOFA deadline indicating their intention of continuing SSVF services with a focus on rental subsidies described in 38 CFR 62.34(a). These Priority 3 awards will be up to 30 percent of previously awarded 2-year grants and are intended to extend the duration of existing awards through September 30, 2022.

C. Allocation of Funds: Funding will be awarded under this NOFA to existing grantees for a 1-year to 3-year period beginning October 1, 2020. The following requirements apply to supportive services grants awarded under this NOFA:

1. In response to this NOFA, only existing grantees can apply as Priority 1, 2, or 3 grantees.

2. Priority 1 and 2 renewal grant requests cannot exceed the current award (the current award includes funds that may have been added to the original award through disaster relief support or through the process described in II.C.8.).

3. Priority 3 renewal grant requests cannot exceed 30 percent of the current award and VA may award an amount less than 30 percent of the original award based on available funding.

4. Applicants may request an amount less than their current award (this will not be considered a substantial change to the program concept).

5. If a grantee failed to use all of awarded funds in the previous fiscal year (FY 2019) or had unspent funds returned to VA in FY 2020, VA may elect to limit renewal award to the amount of funds used in the previous fiscal year or in the current fiscal year less the money swept.

6. If, during the course of the grant year, VA determines that Priority 1 and 2 grantee spending is not meeting the minimum percentage milestones below, VA may elect to recoup projected unused funds and reprogram such funds to provide supportive services in areas with higher need. Should VA elect to recoup unspent funds, reductions in available grant funds would take place the first business day following the end of the quarter. VA may elect to recoup funds under the following circumstances:

(a) By the end of the first quarter (December 31, 2020) of the grantee's supportive services annualized grant award period, the grantee's cumulative requests for supportive services grant funds is fewer than 15 percent of total supportive services grant award. (During this same period, the grantee's cumulative requests for supportive services grant funds may not exceed 35 percent of the total supportive services grant award.)

(b) By the end of the second quarter (March 31, 2021) of the grantee's supportive services annualized grant award period, the grantee's cumulative requests for supportive services grant funds is fewer than 40 percent of total supportive services grant award. (During this same period, the grantee's cumulative requests for supportive services grant funds may not exceed 60 percent of the total supportive services grant award.)

(c) By the end of the third quarter (June 30, 2021) of the grantee's supportive services annualized grant award period, the grantee's cumulative requests for supportive services grant funds is fewer than 65 percent of total supportive services grant award. (During this same period, the grantee's cumulative requests for supportive services grant funds may not exceed 80 percent of the total supportive services grant award.)

7. Applicants should fill out separate applications for each supportive services funding request.

8. Applicants who fail to provide a letter of support from at least one of the CoCs they plan to serve will be eligible for renewal funding at a level no greater than 90 percent of their previous award. Applicants are responsible for determining who in each serviced CoC is authorized to provide such letters of support. This requirement applies to all applicants, including existing multi-year grantees that are only required to submit a LOI in response to this NOFA. In order to meet this requirement and allow the applicant to be eligible for full funding, letters must include:

(a) A detailed description of the applicant's participation in the CoC's Coordinated Entry process or planning activities and overall community planning efforts (for instance, confirmation of applicant's active participation in planning coordinated entry, commitment to participating in coordinated entry, hours spent on CoC-sponsored committee or workgroup assignments, and names of said committees or workgroups).

(b) The applicant's contribution to the CoC's coordinated entry process capacity building efforts, detailing the specific nature of this contribution (for instance, the hours of staff time and/or the amount of funding provided), if such SSVF capacity has been requested by the CoC or otherwise has shown to be of value to the CoC.

9. Should additional funding become available over the course of grant term from funds recouped under the Award Information section of this Notice, funds that are voluntarily returned by grantees, funds that become available due to a grant termination, or other funds still available for grant awards, VA may elect to offer these funds to grantees in areas where demand has exceeded available SSVF resources. Additional funds will be provided first to the highest scoring grantee in the selected area who is in compliance with their grant agreement and has the capacity to utilize the additional funds.

D. Supportive Services Grant Award Period: Priority 2 grants are made for a 1-year period, although selected grants may be eligible for a 3-year award (see VI.C.6) as Priority 1 awards. All grants are eligible to be renewed subject to the availability of funding.

III. Eligibility Information

A. Eligible Applicants: For Priority 1 and 2, only eligible entities that are existing grantees with grants scheduled to end by September 30, 2020, can apply in response to this NOFA. For Priority 3, only eligible entities that are existing grantees previously awarded 2-year grants stemming from the SSVF NOFA published on December 19, 2018, can apply in response to this NOFA.

B. Cost Sharing or Matching: None.

IV. Application and Submission Information

A. Obtaining an Application Package: Applications are located at www.va.gov/homeless/ssvf. Any questions regarding this process should be referred to the SSVF Program Office by email at SSVF@va.gov. For detailed SSVF Program information and requirements, see 38 CFR part 62.

B. Content and Form of Application: Applicants must submit applications electronically following instructions found at www.va.gov/homeless/ssvf.

C. Submission Dates and Times: Applications for supportive services grants under the SSVF Program must be received by the SSVF Program Office by 4:00 p.m. Eastern Time on January 24, 2020. Awards made for supportive services grants will fund operations beginning October 1, 2020. Applications must arrive as a complete package. Materials arriving separately will not be included in the application package for consideration and may result in the application being rejected. Additionally, in the interest of fairness to all competing applicants, this deadline is firm as to date and hour, and VA will treat as ineligible for consideration any application that is received after the deadline. Applicants should take this practice into account and make early submission of their materials to avoid any risk of loss of eligibility brought about by unanticipated delays, computer service outages, or other delivery-related problems.

D. Funding Restrictions: Funding will be awarded for existing supportive services grants under this NOFA depending on funding availability. Priority 1 and 2 applicants should fill out separate applications for each supportive services funding request. Priority 3 applicants must submit a separate LOI for each award. Funding will be awarded under this NOFA to existing grantees beginning October 1, 2020.

1. Funding used for staff education and training cannot exceed 1 percent of the overall program grant award. This limitation does not include the cost to attend VA mandated training. All training costs must be directly related to the provision of services to homeless Veterans and their families.

2. Expenses related to maintaining accreditation are allowable. Priority 1 and 2 grantees are allowed to include expenses for seeking initial accreditation only once in a 5-year period. The expenses to renew full accreditation is allowed and is based on the schedule of the accrediting agency: For instance, every 3 years for CARF and every 4 years for COA. Expenses related to the renewal of less than full accreditation are not allowed.

E. Other Submission Requirements:

1. Existing applicants applying for Priority 1 or 2 grants may apply only as renewal applicants using the application designed for renewal grants.

2. At the discretion of VA, multiple grant proposals submitted by the same lead agency may be combined into a single grant award if the proposals provide services to contiguous areas.

3. Additional supportive services grant application requirements are specified in the application package. Submission of an incorrect or incomplete application package will result in the application being rejected during threshold review. The application packages must contain all required forms and certifications. Selections will be made based on criteria described in 38 CFR part 62 and this NOFA. Applicants and grantees will be notified of any additional information needed to confirm or clarify information provided in the application and the deadline by which to submit such information. Applicants must submit applications electronically. Applications may not be mailed, hand carried, or sent by facsimile.

V. Application Review Information

A. Criteria:

1. VA will only score applicants that meet the threshold requirements described in 38 CFR 62.21.

2. VA will use the criteria described in 38 CFR 62.24 to score grantees applying for renewal (Priority 1 and 2) of a supportive services grant.

3. Priority 3 submission requirements are described in II.B.3.

B. Review and Selection Process: VA will review all supportive services renewal grant applications in response to this NOFA according to the following steps:

1. Score all applications that meet the threshold requirements described in 38 CFR 62.21.

2. Rank those applications who score at least 75 cumulative points and receive at least one point under each of the categories identified for renewal applicants in 38 CFR 62.24. The applications will be ranked in order from highest to lowest scores in accordance with 38 CFR 62.25 for renewal applicants.

3. VA will utilize the ranked scores of applications as the primary basis for selection. However, VA will also utilize the following considerations in 38 CFR 62.23(d) to select applicants for funding:

(a) Give preference to applications that provide or coordinate the provision of supportive services for very low-income Veteran families transitioning from homelessness to permanent housing. Consistent with this preference, where other funds from community resources are not readily available for temporary financial assistance, applicants are required to spend no less than 60 percent of all budgeted temporary financial assistance on participants occupying permanent housing as defined in 38 CFR 62.11(b). Waivers to this 60 percent requirement may be requested when grantees can demonstrate significant local progress towards eliminating homelessness in the target service area. Waiver requests must include data from authoritative sources such as USICH certification, that a community has ended homelessness as defined by Federal Benchmarks and Criteria or has reached Community Solution's Functional Zero. Waivers for the 60 percent requirement may also be requested for services provided to rural Indian tribal areas and other rural areas where shelter capacity is insufficient to meet local need. Waiver requests must include an endorsement by the impacted CoC explicitly stating that a shift in resources from rapid re-housing to prevention will not result in an increase in homelessness.

(b) To the extent practicable, ensure that supportive services grants are equitably distributed across geographic regions, including rural communities and tribal lands. This equitable distribution criteria will be used to ensure that SSVF resources are provided to those communities with the highest need as identified by VA's assessment of expected demand and available resources to meet that demand.

4. Subject to the considerations noted in paragraph B.3 above, VA will fund the highest-ranked applicants for which funding is available.

VI. Award Administration Information

A. Award Notices: Although subject to change, the SSVF Program Office expects to announce grant recipients for all applicants in the fourth quarter of FY 2020 with grants beginning October 1, 2020. Prior to executing a funding agreement, VA will contact the applicants, make known the amount of proposed funding, and verify that the applicant would still like the funding. Once VA verifies that the applicant is still seeking funding, VA will execute an agreement and make payments to the grant recipient in accordance with 38 CFR part 62 and this NOFA.

B. Administrative and National Policy Requirements:

As SSVF grants cannot be used to fund treatment for mental health or substance use disorders, applicants must provide evidence that they can provide access to such services to all program participants through formal and informal agreements with community providers.

C. Reporting: VA places great emphasis on the responsibility and accountability of grantees. As described in 38 CFR 62.63 and 62.71, VA has procedures in place to monitor supportive services provided to participants and outcomes associated with the supportive services provided under the SSVF Program. Applicants should be aware of the following:

1. Upon execution of a supportive services grant agreement with VA, grantees will have a VA regional coordinator assigned by the SSVF Program Office who will provide oversight and monitor supportive services provided to participants.

2. Grantees will be required to enter data into a Homeless Management Information System (HMIS) Web-based software application. These data will consist of information on the participants served and types of supportive services provided by grantees. Grantees must treat the data for activities funded by the SSVF Program separate from that of activities funded by other programs. Grantees will be required to work with their HMIS Administrators to export client-level data for activities funded by the SSVF Program to VA on at least a monthly basis.

3. VA will complete annual monitoring evaluations of each grantee. Monitoring will also include the submittal of quarterly and annual financial and performance reports by the grantee. The grantee will be expected to demonstrate adherence to the grantee's proposed program concept, as described in the grantee's application. All grantees are subject to audits conducted by the VA or its representative.

4. Grantees will be assessed based on their ability to meet critical performance measures. In addition to meeting program requirements defined by the regulations and applicable NOFA(s), grantees will be assessed on their ability to place participants into housing and the housing retention rates of participants served. Higher placement for homeless participants and higher housing retention rates for at-risk participants are expected for very-low income Veteran families when compared to extremely low-income Veteran families with incomes below 30 percent of the area median income.

5. Grantees' performance will be assessed based on their consumer satisfaction scores. These scores include the participation rates and results of both the standardized survey offered to all participant households and unannounced visits to assess screening and intake procedures (commonly known as a mystery shopper program).

6. Organizations receiving renewal awards and have had ongoing SSVF program operation for at least 1 year (as measured from the start of initial SSVF services until January 24, 2020) may be eligible for a 3-year award. Grantees meeting outcome goals defined by VA and in substantial compliance with their grant agreements (defined by meeting targets and having no outstanding corrective action plans) and who, in addition, receive 3-year accreditation from CARF in Employment and Community Services: Rapid Rehousing and Homeless Prevention standards, a 4-year accreditation from COA accreditation in Supported Community Living Services standards, or a 3 year accreditation in The Joint Commission's Behavioral Health Care: Housing Support Services Standards are eligible for a 3-year grant renewal subject to funding availability. (NOTE: Multi-year awards are contingent on funding availability). If awarded a multiple year renewal, grantees may be eligible for funding increases as defined in NOFAs that correspond to years 2 and 3 of their renewal funding.

VII. Other Information

A. VA Goals and Objectives for Funds Awarded Under this NOFA: In accordance with 38 CFR 62.24(c), VA will evaluate an applicant's compliance with VA goals and requirements for the SSVF Program. VA goals and requirements include the provision of supportive services designed to enhance the housing stability and independent living skills of very low-income Veteran families occupying permanent housing across geographic regions and program administration in accordance with all applicable laws, regulations, and guidelines. For purposes of this NOFA, VA goals and requirements also include the provision of supportive services designed to rapidly re-house or prevent homelessness among people in the following target populations who also meet all requirements for being part of a very low-income Veteran family occupying permanent housing:

1. Veteran families earning less than 30 percent of area median income as most recently published by HUD for programs under section 8 of the United States Housing Act of 1937 (42 U.S.C. 1437f) (http://www.huduser.org).

2. Veterans with at least one dependent family member.

3. Veterans returning from Operation Enduring Freedom, Operation Iraqi Freedom, or Operation New Dawn.

4. Veteran families located in a community, as defined by HUD's CoC, or a county not currently served by a SSVF grantee.

5. Veteran families located in a community, as defined by HUD's CoC, where current level of SSVF services is not sufficient to meet demand of Category 2 and 3 (currently homeless) Veteran families.

6. Veteran families located in a rural area.

7. Veteran families located on Indian Tribal Property.

B. Payments of Supportive Services Grant Funds: Grantees will receive payments electronically through the U.S. Department of Health and Human Services Payment Management System. Grantees will have the ability to request payments as frequently as they choose subject to the following limitations:

1. During the first quarter of the grantee's supportive services annualized grant award period, the grantee's cumulative requests for supportive services grant funds may not exceed 35 percent of the total supportive services grant award without written approval by VA.

2. By the end of the second quarter of the grantee's supportive services annualized grant award period, the grantee's cumulative requests for supportive services grant funds may not exceed 60 percent of the total supportive services grant award without written approval by VA.

3. By the end of the third quarter of the grantee's supportive services annualized grant award period, the grantee's cumulative requests for supportive services grant funds may not exceed 80 percent of the total supportive services grant award without written approval by VA.

4. By the end of the fourth quarter of the grantee's supportive services annualized grant award period, the grantee's cumulative requests for supportive services grant funds may not exceed 100 percent of the total supportive services grant award.

Signing Authority

The Secretary of Veterans Affairs, or designee, approved this document and authorized the undersigned to sign and submit the document to the Office of the Federal Register for publication electronically as an official document of the Department of Veterans Affairs. Pamela Powers, Chief of Staff, Department of Veterans Affairs, approved this document on December 2, 2019, for publication.

Jeffrey M. Martin,
Assistant Director, Office of Regulation Policy & Management, Office of the Secretary, Department of Veterans Affairs.

[FR Doc. 2019-26281 Filed 12-4-19; 8:45 am]

BILLING CODE 8320-01-P